DEPARTMENT OF TRANSPORTATION

Federal Transit Administration

Notice of Limitation on Claims Against Proposed Public Transportation Projects

AGENCY: Federal Transit Administration (FTA), DOT.

ACTION: Notice of limitation on claims.

SUMMARY: This notice announces final environmental actions taken by the Federal Transit Administration (FTA) for public transportation projects in the following areas: Fort Collins, Colorado; Belle Glade, Florida; Gustavus, Alaska; Dallas, Texas; West Covina, California; and Andover, New Jersey. The purpose of this notice is to announce publicly the environmental decisions by FTA on the subject projects and to activate the limitation on any claims that may challenge these final environmental actions.

DATES: By this notice, FTA is advising the public of final agency actions subject to Title 23, United States Code (U.S.C.), section 139(l). A claim seeking judicial review of the FTA actions announced herein for the listed public transportation projects will be barred unless the claim is filed on or before March 25, 2009.

FOR FURTHER INFORMATION CONTACT: Elizabeth Zelasko, Environmental Protection Specialist, Office of Planning and Environment, 202-366-0244, or Christopher Van Wyk, Attorney-Advisor, Office of Chief Counsel, 202-366-1733. FTA is located at 1200 New Jersey Avenue, SE., Washington, DC 20590. Office hours are from 9 a.m. to 5:30 p.m., e.t., Monday through Friday, except Federal holidays.

SUPPLEMENTARY INFORMATION: Notice is hereby given that FTA has taken final agency actions by issuing certain approvals for the public transportation projects listed below. The actions on these projects, as well as the laws under which such actions were taken, are described in the documentation issued in connection with the project to comply with the National Environmental Policy Act (NEPA), and in other documents in the FTA administrative record for the project. The final agency environmental decision documents—Records of Decision (ROD) or Findings of No Significant Impact (FONSI)—for the listed projects are available online at http://www.fta.dot.gov/planning/environment/planning_environment_documents.html or may be obtained by contacting the FTA Regional Office for the metropolitan area where the project is located. Contact information for the FTA Regional Offices may be found at http://www.fta.dot.gov.

This notice applies to all FTA decisions on the listed projects as of the issuance date of this notice and all laws under which such actions were taken, including, but not limited to, the National Environmental Policy Act (NEPA) [42 U.S.C. 4321-4375], Section 4(f) of the Department of Transportation Act of 1966 [49 U.S.C. 303], Section 106 of the National Historic Preservation Act [16 U.S.C. 470f], and the Clean Air Act [42 U.S.C. 7401-7671q].

The projects and actions that are the subject of this notice are:

1. Project name and location: The Mason Corridor MAX Bus Rapid Transit (BRT) Project, Fort Collins, Colorado. Project sponsor: City of Fort Collins. Project description: The FTA and City of Fort Collins have completed an Environmental Assessment (EA) for a five-mile, north-south BRT system that will be located in the central area of Fort Collins. The BRT system that extends from Cherry Street to south of Harmony Road will involve 3.6 miles of exclusive guideway with 1.4 miles of mixed street traffic. The project will also include a transit center, two-way conversion of N. Mason Street and Howes Street, and several park-n-ride lots and BRT stations. Final Agency Actions: FONSI signed on September 9, 2008. Section 106 Memorandum of Agreement signed on August 1, 2008; Project-level Air Conformity Determination; and Section 4(f) de minimis impact finding. Supporting documentation: Mason Corridor Mason Express Bus Rapid Transit Environmental Assessment signed May 27, 2008.

2. Project name and location: Palm Tran Satellite Bus Facility, Belle Glade, Florida. Project sponsor: Palm Tran. Project description: The project involves the construction of a satellite bus facility with a 7,600-square-foot maintenance and bus storage building, and a bus parking area. The satellite bus facility will be near Belle Glade, Florida and built as a joint project with the West County Government Center and Correctional Facilities. Final agency actions: FONSI signed on August 11, 2008; Project-level Air Conformity Determination; Section 106 Finding of No Historic Properties Affected. Supporting documentation: Palm Tran Satellite Bus Facility Environmental Assessment released on June 15, 2008.

3. Project name and location: Gustavus Causeway Replacement, Gustavus, Alaska. Project sponsor: State of Alaska Department of Transportation and Public Facilities (Alaska DOT&PF). Project description: Alaska DOT&PF intends to replace a dock facility in Gustavus, Alaska that supports freight movement, bulk fuel transfer, and marine passenger vessels. The replacement dock will include a wider trestle to allow two-way traffic, a securable staging area for passenger vehicles and freight, and an upgraded fuel-transfer pipeline. Final agency actions: FONSI signed on August 14, 2008. Supporting documentation: Environmental Assessment for the Gustavus Causeway Replacement Project issued in May 2008.

4. Project name and location: Northwest Corridor to Irving/Dallas-Fort Worth Light Rail Transit Line, Dallas, Texas. Project sponsor: Dallas Area Rapid Transit (DART). Project description: DART is proposing to construct a 9.3-mile light rail transit extension from the existing Northwest Corridor line to the Dallas/Forth Worth Airport Property. The project will involve the construction of six light rail transit stations and seven traction power substations and the purchase of ten light rail vehicles. DART would defer construction of two proposed light rail stations until they are warranted by development. Final agency actions: ROD signed on September 5, 2008; Section 106 Finding of No Historic Properties Affected; Section 4(f) finding, and Project-level Air Conformity Determination. Supporting documentation: Northwest Corridor to Irving/Dallas-Fort Worth Light Rail Transit Line Environmental Impact Statement signed on July 17, 2008.

5. Project name and location: Foothill Transit Park-and-Ride, West Covina, California. Project sponsor: Foothill Transit. Project description: The project involves the construction of a six-level parking structure on an existing surface parking lot in West Covina, California. Final agency actions: FONSI signed on July 10, 2008; Project-level Air Conformity Determination; Section 106 Finding of No Historic Properties Affected. Supporting documentation: Environmental Assessment for the Foothill Transit Park-and-Ride signed on May 23, 2008.

6. Project name and location: Lackawanna Cut-Off Rail Restoration Project, Minimal Operable Segment, Andover, New Jersey. Project sponsor: New Jersey Transit (NJT). Project description: The project involves the construction of one station and parking facility with 65 spaces in Andover, New Jersey, construction of 7.3 miles of new railroad infrastructure (track, signals, communications, and grade crossing improvements) on existing right-of-way in New Jersey, and rehabilitation of the Roseville Tunnel. The service will operate out to Andover, New Jersey from Hoboken, New Jersey, extending from the existing NJT Morris & Essex and Montclair-Boonton Line trains. Final agency actions: FONSI signed on September 12, 2008; Section 106 Finding of No Adverse Effect. Supporting documentation: Environmental Assessment on the Lackawanna Cut-Off Rail Restoration Project issued on July 1, 2008.

Issued on: September 17, 2008.
Susan Borinsky,
Associate Administrator for Planning and Environment, Washington, DC.

[FR Doc. E8-22634 Filed 9-25-08; 8:45 am]

BILLING CODE 4910-57-P